DEPARTMENT OF DEFENSE

Department of the Navy

Notice of Performance Review Board Membership

AGENCY: Department of the Navy, DOD.

ACTION: Notice.

SUMMARY: Pursuant to 5 U.S.C. 4314(c)(4), the Department of the Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for monetary performance awards. Composition of the specific PRBs will be determined on an ad hoc basis from among individuals listed below:

Ackley, V. H. Mr.

Akin, M. G. Mr.

Allen, R. Mr.

Altwegg, D. M. Mr.

Antanitus, D. Radm

Antoine, C. S. Mr.

Aviles, D. M. Hon.

Bailey, W. C. Mr.

Baugh, D. E. Radm

Bauman, D. M. Mr.

Blair, A. K. Ms.

Bonwich, S. M. Mr.

Bowlin, J. Capt

Boyd, W. R. Mr.

Brant, D. L. Mr.

Breedlove, W. J. Dr.

Brown, P. F. Mr.

Cali, R. T. Mr.

Camp, J. R. Mr.

Carpenter, A. W. Ms.

Catrambone, G. P. Mr.

Chenevey, J. Radm

Cieslak, R. C. Mr.

Cipriano, J. R. Mr.

Clark, C. A. Ms.

Cochrane Jr, E. R. Mr.

Cobb, B. Radm

Coffey, T. Dr.

Cohen, J. M. Radm

Cohn, H. Mr.

Cole, D. A. Mr.

Commons, G. L. Ms.

Cook, J. Radm

Cosgriff, K. Radm

Crabtree, T. R. Mr.

Cuddy, J. V. Mr.

Curtis, D. I. Mr.

Davis, J. Radm

Decker, M. H. Mr.

Demarco, R. Dr.

Doherty, L. M. Dr.

Dominguez, M. I. Mr.

Dudley, W. S. Dr.

Durand, S. R. Ms.

Durham, D. L. Dr.

Dwher, D. Radm

Dyer, J. W. Radm

Ehrler, S. M. Mr.

Ellis, W. G. Mr.

Enewold, S. Radm

Engelhardt, B. B. Radm

Essig, T. W. Mr.

Evans, G. L. Ms.

Feigley, J. M. BGen

Filippi, D. M. Ms.

Florip, T. F. Mr.

Flynn, B. P. Ms.

Ford, F. B. Mr.

Franken, D. J. Mr.

Franklin, R. E. Mr.

Glasco, L. M. Mr.

Godwin, G. Rdml

Gottfried, J. M. Ms.

Greenert, J. W. Radm

Haas, R. L. Mr.

Hagedorn, G. D. Mr.

Haines, R. C. Mr.

Hamilton, C. Rdml

Hammond, R. E. Mr.

Handel, T. H. Mr.

Hannah, B. W. Dr.

Hauenstein, W. H. Mr.

Haynes, R. S. Mr.

Hefferon, J. J. Mr.

Henry, M. G. Mr.

Hildebrandt, A. H. Mr.

Hogue, R. D. Mr.

Holaday, D. A. Mr.

Honecker, M. W. Mr.

Hough, M. MajGen

Howard, J. S. Mr.

Howell, D. S. Ms.

Howie, H. K. Mr.

Hubbell, P. C. Mr.

Jenkins, G. H. Radm

Johnston, K. J. Dr.

Kadane, J. Mr.

Kaskin, J. D. Mr.

Keil, J. G. Mr.

Kelly, L. J. Mr.

Kleintop, M. U. Ms.

Knapp, R. Radm

Kolb, R. C. DR.

Krasik, S. A. Ms.

Kreitzer, L. P. Mr.

Lacey, M. E. Mrs.

Laraia, J. R. Mr.

Laux, T. E. Mr.

Leach, R. A. Mr.

Leboeuf, G. G. Mr.

Leggieri, S. R. Ms.

Lehnert, M. R. BGen

Lewis, R. D. Ms.

Lippert, K. W. Radm

Lisiewski, R. S. Mr.

Loftus, J. V. Ms.

Long, L. A. Ms.

Loose, M. K. Radm

Lopata, F. A. Mr.

Lowell, P. M. Mr.

Lynch, J. G. Mr.

Maltbie JR, W. F. Mr.

Mangels, K. H. Mr.

Marquis, S. L. Dr.

Martin, R. J. Mr.

Masciarelli, J. R. Mr.

Mathis, M. Radm

Mattheis, W. G. Mr.

McDonnell, T. E. Mr.

McEleny, J. F. Mr.

McGinn, D. V. Vadm

McKissock, G. S. LtGen

McNair, J. W.

Meadows, L. J. Ms.

Melcher, G. K. Mr.

Merritt, D. L. Mr.

Merritt, M. M. Mr.

Meserole Jr., M. Mr.

Miller, K. E. Mr.

Mohler, M. K. Mr.

Molzahn, W. R. Mr.

Morral, D. Rdml

Moore, S. B. Mr.

Morehouse, B. L. Ms.

Morris, D. A. Mr.

Moy, J. W. Mr.

Murphy, P. M. Mr.

Muth, C. C. Ms.

Nans, C. Col

Navas Jr., W. A. Gen

Neerman, D. W. Mr.

Nehman, J. Mr.

Nemfakos, C. P. Mr.

Newton, L. A. Ms.

Nickell JR, J. R. Mr.

Nyland, W. L. LtGen

O'Driscoll, M. J. Mr.

Olsen, M .A. Ms.

Panek, R. L. Mr.

Parks, G. L. LtGen

Paulk, R. D. Ms.

Payne, T. Mr.

Pennisi, R. A. Mr.

Persons, B. J. Mr.

Phelps, F. A. Mr.

Polzin, J. E. Mr.

Porter, D. E. Mr.

Powers, B. F. Mr.

Prine, R. Mr.

Randall, S. R. Mr.

Raps, S. P. Ms.

Rau, D. Capt

Roark Jr., J. E. Mr.

Robinson, W. M. Mr.

Roberson, E. S. Ms.

Roby, C. J. Ms.

Roderick, B. A. Mr.

Rosenthal, R. J. Mr.

Ryan, P. J. Radm

Ryzewic, W. H. Mr.

Saalfeld, F. Dr.

Sandel, E. A. Ms.

Saul, E. L. Mr.

Savitsky, W. D. Mr.

Schaefer, J. C. Mr.

Schaefer Jr., W. J. Mr.

Schneider, P. A. Mr.

Schubert, D. Capt

Schuster Jr., J. G. Mr.

Sharp, M. Rdml

Shea, R. M. MajGen

Sheck, E. E. Mr.

Shephard, M. R. Ms.

Shoup, F. E. Dr.

Sirmalis, J. E. Dr.

Slocum, W. S. Mr.

Smiley, R. E, Dr.

Somoroff, A. R. Dr.

Spinrad, R. Dr.

Stelloh-Garner, C. Ms.

Storey, R. C. Mr.

Stussie, W. A. Mr.

Tamburrino, P. M. Mr.

Tarrant, N. J. Ms.

Thomas, J. R. BGen

Thomas, R. O. Mr.

Thompson, R. C. Mr.

Throckmorton Jr., E. L. Mr.

Townsend, D. K. Ms.

Trammell, R. K. Mr.

Tullar, E.W. Mr.

Turner, R.F. Mr.

Turnquist, C.J. Mr.

Uhler, D.G. Dr.

Viccione, D.E. Dr.

Waldman, M.B. Mr.

Welch, B.S. Ms.

Wennergren, D.M. Mr.

Weyman, A.S. Mr.

Whiton, H.W. RAdm

Whittemore, A. Ms.

Williams, G.P. Mr.

Wright, J.W. Dr.

Young, C.B. Radm

Young, J.J. Hon.

Yount, G.R. Radm

Zeman, A.R. Dr.

FOR FURTHER INFORMATION CONTACT: Ms. Carmen Arrowood, Office of the Assistant Secretary, Manpower and Reserve Affairs, 1000 Navy Pentagon, Washington, DC 20350-1000, telephone (703) 696-5165.

Dated: August 16, 2001.
S.K. Melancon,
Paralegal Specialist, Office of the Judge Advocate General, Alternate Federal Register Liaison Officer.

[FR Doc. 01-21674 Filed 8-27-01; 8:45 am]

BILLING CODE 3810-FF-P